DEPARTMENT OF COMMERCE

International Trade Administration

[A-570-028]

Hydrofluorocarbon Blends and Components Thereof From the People's Republic of China: Postponement of Preliminary Determination of Antidumping Duty Investigation

AGENCY: Enforcement and Compliance, International Trade Administration, Department of Commerce.

DATES: Effective date: November 16, 2015.

FOR FURTHER INFORMATION CONTACT: Dennis McClure or Elizabeth Eastwood at (202) 482-5973 and (202) 482-3874, respectively; AD/CVD Operations, Enforcement and Compliance, U.S. Department of Commerce, 14th Street and Constitution Avenue NW., Washington, DC 20230.

SUPPLEMENTARY INFORMATION:

Background

On July 22, 2015, the Department of Commerce (the Department) published a notice of initiation of antidumping duty investigation of hydrofluorocarbon blends and components thereof from the People's Republic of China.¹ The notice of initiation stated that the Department, in accordance with section 733(b)(1)(A) of the Tariff Act of 1930, as amended (the Act), and 19 CFR 351.205(b)(1), would issue its preliminary determination for this investigation, unless postponed, no later than 140 days after the date of the initiation. The preliminary determination of this antidumping duty investigation is currently due no later than December 2, 2015.

¹ See Hydrofluorocarbon Blends and Components Thereof From the People's Republic of China: Initiation of Less-Than-Fair-Value Investigation, 80 FR 43387 (July 22, 2015).

Period of Investigation

The period of investigation is October 1, 2014, through March 31, 2015.

Postponement of Preliminary Determination

Section 733(c)(1)(A) of the Act permits the Department to postpone the time limit for the preliminary determination if it receives a timely request from the petitioner for postponement. The Department may postpone the preliminary determination under section 733(c)(1) of the Act no later than the 190th day after the date on which the administering authority initiates an investigation.

On October 28, 2015, American HFC Coalition and its individual members,² as well as District Lodge 154 of the International Association of Machinists and Aerospace Workers (collectively, the petitioners), made a timely request pursuant to section 733(c)(1) of the Act and 19 CFR 351.205(e) for postponement of the preliminary determination in this investigation. The petitioners requested a 50-day postponement of the preliminary determination in order to allow the petitioners additional time to review and comment on the questionnaire responses submitted in this case, as well as to consider the Department's recent inclusion of Mexico and Romania on the list of potential surrogate countries. The petitioners submitted a request for postponement of the preliminary determination more than 25 days before the scheduled date of the preliminary determination.³

² The individual members of the American HFC Coalition are: Amtrol Inc., Arkema Inc., The Chemours Company FC LLC, Honeywell International Inc., Hudson Technologies, Mexichem Fluor Inc., and Worthington Industries, Inc.

³ See 19 CFR 351.205(e).

Because the petitioners' request was timely and provided reasons for the request, and since the Department finds no compelling reasons to deny the request, the Department is postponing the deadline for the preliminary determination in accordance with section 733(c)(1)(A) of the Act and 19 CFR 351.205(b)(2) and (e) by 50 days to January 21, 2016. The deadline for the final determination will continue to be 75 days after the date of the preliminary determination unless postponed at a later date.

This notice is issued and published pursuant to section 733(c)(2) of the Act and 19 CFR 351.205(f)(1).

Dated: November 4, 2015.
Paul Piquado,
Assistant Secretary for Enforcement and Compliance.

[FR Doc. 2015-29172 Filed 11-13-15; 8:45 am]

BILLING CODE 3510-DS-P